NUCLEAR REGULATORY COMMISSION

Working Group Meeting on Control of Solid Materials

AGENCY: Nuclear Regulatory Commission.

ACTION: Notice of meeting.

SUMMARY: The Nuclear Regulatory Commission (NRC) staff Working Group on control of solid materials will hold regular meetings to develop the Commission paper to be prepared for submittal to the Commission in March 2000. The meetings will be open for the public to observe the processes used for the development of the paper.

DATES: Wednesday, February 9, 2000, from 1 p.m. to 3 p.m., and alternate Wednesdays after that date.

ADDRESSES: Nuclear Regulatory Commission, Room T7-A1, Two White Flint North, 11545 Rockville Pike, Rockville, Maryland.

FOR FURTHER INFORMATION CONTACT: Frank Cardile; e-mail: fpc@nrc.gov, telephone: (301) 415-6185; or Anthony Huffert; e-mail: amh1@nrc.gov, Office of Nuclear Material Safety and Safeguards, USNRC, Washington DC 20555-0001.

SUPPLEMENTARY INFORMATION: The NRC previously published an Issues Paper in a Federal Register notice (FRN) on June 30, 1999 (64 FR 35090), indicating that it is examining its current approach for the control of solid materials. The Issues Paper discussed several issues and alternative approaches and invited written and electronic comment on the paper by November 15, 1999 (the date was subsequently extended to December 22, 1999). In addition, the NRC held four facilitated public meetings at different locations between September and December 1999. Currently, the NRC Staff is preparing a paper, and plans to brief the Commission, on stakeholder reactions and concerns with the Issues Paper expressed both at the public meetings and in written comment, on the status of the technical analyses, and on recommendations on whether to proceed with rulemaking or other staff actions regarding release of solid materials, and the schedule for future staff actions on this effort. The NRC Staff will hold regular meetings to develop the March Commission paper that are open to the public to better clarify for interested parties the development of the alternatives and issues to be included in the March Commission paper, and to allow observers to comment on the planned development of the paper. As space permits, all interested parties may attend as observers. Time will be allocated for brief statements from the public.

Information about current NRC efforts in this area can be found on a website dedicated to this effort at the following address: http://www.nrc.gov/NMSS/IMNS/controlsolids.html. The website includes the Issues Paper, discussion of opportunities for public comment, and summaries of comments at the public meetings held to date.

The public meetings will generally be held at the Nuclear Regulatory Commission offices in Rockville, Maryland, every other Wednesday, beginning February 9, 2000, from 1 p.m. to 3 p.m. in Room T7-A1, Two White Flint North, 11545 Rockville Pike. Those planning to attend the meetings should verify the status of the meeting by checking the NRC public meeting website at http://www.nrc.gov/NRC/PUBLIC/meet.html. Also, for planning purposes, observers from the public are requested to notify Roberta Gordon at (301) 415-7555 if they plan to attend.

Dated at Rockville, Maryland, this 28th day of January 2000.
For the Nuclear Regulatory Commission.
Lawrence E. Kokajko,
Acting Chief, Regulations and Guidance Branch, Division of Industrial and Medical Nuclear Safety, Office of Nuclear Material Safety and Safeguards.

[FR Doc. 00-2428 Filed 2-2-00; 8:45 am]

BILLING CODE 7590-01-P